DEPARTMENT OF THE INTERIOR

National Park Service

Aniakchak National Monument Subsistence Resource Commission Meeting

AGENCY: National Park Service, Interior.

ACTION: Announcement of Subsistence Resource Commission meeting.

SUMMARY: The Superintendent of Aniakchak National Monument and the Chairperson of the Subsistence Resource Commission for Aniakchak National Monument announce a forthcoming meeting of the Aniakchak National Monument Subsistence Resource Commission. The following agenda items will be discussed:

(1) Call to order (Chair).

(2) SRC Roll Call and Confirmation of Quorum.

(3) Welcome and Introductions.

(4) Review and Adopt Agenda.

(5) Review and adopt minutes from last meeting.

(6) Commission Purpose.

(7) Status of Membership.

(8) Public and Agency Comments.

(9) Old Business:

a. Customary Trade.

b. Status of Subsistence Management Plan.

c. Status of Hunting Plan Recommendation 97-1, Establish One-Year Minimum Residency Requirement for Resident Zone Communities.

d. Status of Aniakchak National Preserve Non-Subsistence User Permit Request.

(1) New Business:

a. October 2001 Chairs Workshop Report.

b. Federal Subsistence Board and Bristol Bay Regional Council Report.

c. Land Status Map.

d. Subsistence Access.

e. Hunting Guide Issues

(11) Election of SRC Chair and Vice Chair.

(13) Public and Agency Comments.

(14) SRC work session (draft proposals, letters, and recommendations).

(15) Set time and place of next SRC meeting.

(16) Adjournment.

DATES: The meeting will begin at 10 a.m. on Tuesday, February 12, 2002 and conclude at approximately 6 p.m. The meeting will reconvene at 9 a.m. on Wednesday, February 13, 2002 and adjourn at approximately 1 p.m.

Location: The meeting will be held at the Chignik Lake Subsistence Community Building, Chignik Lake, Alaska, (907) 845-2212.

FOR FURTHER INFORMATION CONTACT: Mary McBurney at Phone (907) 257-2633, or Tom O'Hara, Subsistence Manager, Aniakchak National Monument, P.O. Box 7, King Salmon, Alaska 99613. Phone (907) 246-2101.

SUPPLEMENTARY INFORMATION: The Subsistence Resource Commissions are authorized under Title VIII, section 808, of the Alaska National Interest Lands Conservation Act, Pub. L. 96-487, and operate in accordance with the provisions of the Federal Advisory Committees Act.

In light of a recent attempt to relocate National Park Service administrative personnel and offices in Washington, DC, this notice may not be published at least 15 days prior to the meeting. The National Park Service regrets these events, but is compelled to hold the meeting as scheduled because of the significant sacrifice re-scheduling would require of commission members who have adjusted their schedules to accommodate the proposed meeting dates.

Draft minutes of the meeting will be available for public inspection approximately 6 weeks after the meeting at the Aniakchak National Monument Office, P.O. Box 7, King Salmon, Alaska 99613. Phone (907) 246-2101.

Robert L. Arnberger,
Regional Director.

[FR Doc. 01-30337 Filed 12-6-01; 8:45 am]

BILLING CODE 4310-70-P